DEPARTMENT OF JUSTICE

Antitrust Division

Notice Pursuant to the National Cooperative Research and Production Act of 1993—J Consortium, Inc.

Notice is hereby given that, on October 20, 2000, pursuant to Section 6(a) of the National Cooperative Research and Production Act of 1993, 15 U.S.C. § 4301 et seq. (“the Act”), J Consortium, Inc. has filed written notifications simultaneously with the Attorney General and the Federal Trade Commission disclosing changes in its membership status. The notifications were filed for the purpose of extending the Act's provisions limiting the recovery of antitrust plaintiffs to actual damages under specified circumstances. Specifically, Cardsoft, Inc., Mountain View, CA; Centro Ricerche Fiat-CRF, Orbassano, Italy; Enea Realtime AB, Taby, Sweden; Pacific Numerics, San Diego, CA; Mecel AB, Gothenburg, Sweden; Metawave Video Systems, Ltd., Newbury, Berkshire, United Kingdom; Michael Barr, Silver Spring, MD; William N. Locke, Bethel Park, PA; and Joe Sexton, San Jose, CA have been added as parties to this venture. Also, UK Ministry of Defence, Weymouth, United Kingdom has been dropped as a party to this venture.

No other changes have been made in either the membership or planned activity of the group research project. Membership in this group research project remains open, and J Consortium, Inc. intends to file additional written notification disclosing all changes in membership.

On August 9, 1999, J Consortium, Inc. filed its original notification pursuant to Section 6(a) of the Act. The Department of Justice published a notice in the Federal Register pursuant to Section 6(b) of the Act on March 21, 2000 (65 FR 15175).

The last notification was filed with the Department on July 21, 2000. A notice was published in the Federal Register pursuant to Section 6(b) of the Act on August 11, 2000 (65 FR 49263).

Constance K. Robinson,
Director of Operations, Antitrust Division.

[FR Doc. 00-29544 Filed 11-17-00; 8:45 am]

BILLING CODE 4410-11-M